DEPARTMENT OF AGRICULTURE

Food Safety and Inspection Service

9 CFR Parts 332 and 381

[Docket No. FSIS-2008-0039]

RIN 0583-AD37

Cooperative Inspection Programs: Interstate Shipment of Meat and Poultry Products; Correction

AGENCY: Food Safety and Inspection Service, USDA.

ACTION: Correcting amendments.

SUMMARY: This document corrects typographical errors in the final regulations establishing a new voluntary cooperative program under which certain very small and small State-inspected establishments will be eligible to ship meat and poultry products in interstate commerce. The final rule was published in the Federal Register on May 2, 2011, and became effective on July 1, 2011.

DATES: December 28, 2011.

FOR FURTHER INFORMATION CONTACT: Charles Williams, Acting Director, Policy Issuance Division, Office of Policy and Program Development, Food Safety and Inspection Service, U.S. Department of Agriculture, Washington, DC 20250; (202) 720-5627; Fax (202) 690-0486.

SUPPLEMENTARY INFORMATION:

Background

On May 2, 2011, FSIS published in the Federal Register, the final rule, “Cooperative Inspection Programs; Interstate Shipment of Meat and Poultry Products” (76 FR 24714). The final rule amended the Federal meat and poultry products inspection regulations to establish a new cooperative inspection program under which State-inspected establishments with 25 or fewer employees on average will be permitted ship meat and poultry products in interstate commerce. Two of the instructions for amending the regulations created typographical errors in the resulting regulatory language. The amendments in this document correct those errors.

List of Subjects

9 CFR Part 332

Grant programs-agriculture, Intergovernmental relations, Meat inspection.

9 CFR Part 381

Grant programs-agriculture, Intergovernmental relations, Poultry and poultry products.

Accordingly, 9 CFR parts 332 and 381 are corrected by making the following correcting amendments:

PART 332—SELECTED ESTABLISHMENTS; COOPERATIVE PROGRAM FOR INTERSTATE SHIPMENT OF CARCASSES, PARTS OF CARCASSES, MEAT, AND MEAT FOOD PRODUCTS

1. The authority citation for part 332 continues to read as follows:

Authority: 21 U.S.C. 601-695; 7 U.S.C. 138-138i, 450, 1901-1906; 7 CFR 2.7, 2.18, 2.53.

§ 332.3 [Amended]

2. Amend § 332.3 as follows:

a. In paragraph (c)(7) remove “and” after the semicolon.

b. In paragraph (c)(8) remove the period at the end of the paragraph and add “; and” in its place.

PART 381—POULTRY PRODUCTS INSPECTION REGULATIONS

3. The authority citation for part 381 continues to read:

Authority: 21 U.S.C. 451-472; 7 CFR 2.18, 2.53.

§ 381.513 [Amended]

4. Amend § 381.513 as follows:

a. In paragraph (c)(7) remove “and” after the semicolon.

b. In paragraph (c)(8) remove the period at the end of the paragraph and add “; and” in its place.

Done in Washington, DC, on: December 19, 2011.
Alfred V. Almanza,
Administrator.

[FR Doc. 2011-32877 Filed 12-27-11; 8:45 am]

BILLING CODE 3410-DM-P